SMALL BUSINESS ADMINISTRATION

[Disaster Declaration #17489 and #17490; Montana Disaster Number MT-00158]

Presidential Declaration Amendment of a Major Disaster for Public Assistance Only for the State of Montana

AGENCY: U.S. Small Business Administration.

ACTION: Amendment 2.

SUMMARY: This is an amendment of the Presidential declaration of a major disaster for Public Assistance Only for the State of Montana (FEMA-4655-DR), dated 06/16/2022.

Incident: Severe Storm and Flooding.

Incident Period: 06/10/2022 through 07/05/2022.

DATES: Issued on 07/15/2022.

Physical Loan Application Deadline Date: 08/15/2022.

Economic Injury (EIDL) Loan Application Deadline Date: 03/16/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Montana, dated 06/16/2022, is hereby amended to establish the incident period for this disaster as beginning 06/10/2022 through 07/05/2022.

All other information in the original declaration remains unchanged.

(Catalog of Federal Domestic Assistance Number 59008)

Joshua Barnes,
Acting Associate Administrator for Disaster Assistance.

[FR Doc. 2022-16033 Filed 7-26-22; 8:45 am]

BILLING CODE 8026-09-P